DEPARTMENT OF THE INTERIOR

Bureau of Land Management

[CA-930; CACA 7670 and CACA 7672]

Public Land Order No. 7723; Partial Revocation of Lighthouse Withdrawals Created by Two Executive Orders and Transfer of Administrative Jurisdiction; California

AGENCY: Bureau of Land Management.

ACTION: Correction.

SUMMARY: The Bureau of Land Management published a document in the Federal Register of January 2, 2009, which had an incomplete DATES caption.

FOR FURTHER INFORMATION CONTACT: Duane Marti, 916-978-4675.

Correction

In the Federal Register of January 2, 2009, in FR Doc. E8-31242, on page 117, at the middle of the second column, “DATES: January 2, 2009” should read “DATES: Effective Date: January 2, 2009.”

Dated: January 29, 2009.
Tom Pogacnik,
Deputy State Director, Natural Resources (CA-930).

[FR Doc. E9-2915 Filed 2-10-09; 8:45 am]

BILLING CODE 4310-15-P